DEPARTMENT OF HOMELAND SECURITY

U.S. Customs and Border Protection

[Docket No. USCBP-2017-0016]

Request for Applicants for Appointment to the Commercial Customs Operations Advisory Committee (COAC)

AGENCY: U.S. Customs and Border Protection, Department of Homeland Security (DHS).

ACTION: Committee management; request for applicants for appointment to the COAC.

SUMMARY: U.S. Customs and Border Protection (CBP) is requesting that individuals who are interested in serving on the Commercial Customs Operations Advisory Committee (COAC) apply for appointment. COAC provides advice and makes recommendations to the Secretaries of the Department of the Treasury (Treasury) and Department of Homeland Security (DHS) on all matters involving the commercial operations of CBP and related functions.

DATES: Applications for membership should be submitted to CBP at the address below on or before July 24, 2017.

ADDRESSES: If you wish to apply for membership, your application should be submitted by one of the following means:

• Email: Traderelations@dhs.gov

• Fax: 202-325-4290

• Mail: Ms. Florence Constant-Gibson, International Trade Liaison, Office of Trade Relations, U.S. Customs and Border Protection, 1300 Pennsylvania Avenue NW., Room 3.5A, Washington, DC 20229.

FOR FURTHER INFORMATION CONTACT: Ms. Florence Constant-Gibson, International Trade Liaison, U.S. Customs and Border Protection, 1300 Pennsylvania Avenue NW., Room 3.5A, Washington, DC 20229. Email: florence.v.constant-gibson.cbp.dhs.gov; telephone 202-344-1440; facsimile 202-325-4290.

SUPPLEMENTARY INFORMATION: The Trade Facilitation and Trade Enforcement Act of 2015 re-established the COAC. The COAC is an advisory committee established in accordance with the provisions of the Federal Advisory Committee Act, 5 U.S.C. Appendix. The COAC shall advise the Secretaries of the Treasury and DHS on the commercial operations of CBP and related Treasury and DHS functions. In accordance with Section 109 of the Trade Facilitation and Trade Enforcement Act, the COAC shall:

(1) Advise the Secretaries of the Treasury and DHS on all matters involving the commercial operations of CBP, including advising with respect to significant changes that are proposed with respect to regulations, policies, or practices of CBP;

(2) provide recommendations to the Secretaries of the Treasury and DHS on improvements to the commercial operations of CBP;

(3) collaborate in developing the agenda for COAC meetings; and

(4) perform such other functions relating to the commercial operations of CBP as prescribed by law or as the Secretaries of the Treasury and DHS jointly direct.

Balanced Membership Plans

The COAC consists of 20 members who are selected from representatives of the trade or transportation community served by CBP or others who are directly affected by CBP commercial operations and related functions. The members shall represent the interests of individuals and firms affected by the commercial operations of CBP, and without regard to political affiliation. The members will be appointed by the Secretaries of the Treasury and DHS from candidates recommended by the Commissioner of CBP. In addition, members will represent major regions of the country.

COAC Meetings

The COAC meets at least once each quarter, although additional meetings may be scheduled. Generally, every other meeting of the COAC may be held outside of Washington, DC, usually at a CBP port of entry. The members are not reimbursed for travel or per diem.

COAC Membership

Membership on the COAC is personal to the appointee and a member may not send an alternate to represent him or her at a COAC meeting. Appointees will serve a one to three year term of office that will be concurrent with the duration of the charter. Regular attendance is essential; a member who is absent for two consecutive meetings, or does not participate in the committee's work, may be recommended for replacement on the COAC.

Members who are currently serving on the COAC are eligible to re-apply for membership provided that they are not in their second consecutive term and that they have met the attendance requirements. A new application letter (see ADDRESSES above) is required, but it may incorporate by reference materials previously filed (please attach courtesy copies). Members will not be considered Special Government Employees and will not be paid compensation by the Federal Government for their representative services with respect to the COAC.

Application for COAC Appointment: Any interested person wishing to serve on the COAC must provide the following:

• Statement of interest and reasons for application;

• Complete professional resume;

• Home address and telephone number;

• Work address, telephone number, and email address;

• Statement of the industry you represent; and

• Statement agreeing to submit to pre-appointment background and tax checks (mandatory).

However, a national security clearance is not required for the position. DHS does not discriminate on the basis of race, color, religion, sex, national origin, sexual orientation, gender identity, marital status, disability and genetic information, age, membership in an employee organization, or other non-merit factor. DHS strives to achieve a widely diverse candidate pool for all of its recruitment actions.

Dated: June 2, 2017.
Kevin K. McAleenan,
Acting Commissioner.

[FR Doc. 2017-11840 Filed 6-6-17; 8:45 am]

BILLING CODE 9111-14-P